DEPARTMENT OF THE INTERIOR

Office of the Secretary

[19XD4523WC DWCFO0000.000000 DS68664000 DQ.QSO00.19WC0000; OMB Control Number 1084-0033]

Agency Information Collection Activities; Private Rental Survey

AGENCY: Office of the Secretary, Office of Acquisition and Property Management, Interior.

ACTION: Notice of information collection; request for comment.

SUMMARY: In accordance with the Paperwork Reduction Act of 1995, we, the Office of Acquisition and Property Management are proposing to renew an information collection.

DATES: Interested persons are invited to submit comments on or before October 7, 2019.

ADDRESSES: Send your comments on this information collection request (ICR) by mail to Laura Walters, Quarters Rental Program Manager, Interior Business Center, 7301 W Mansfield Ave., MS D-2910, Denver, CO 80235, or by fax: 303-969-6336, or by email to laura_a_walters@ibc.doi.gov. Please reference OMB Control Number 1084-0033 in the subject line of your comments.

FOR FURTHER INFORMATION CONTACT: To request additional information about this ICR, contact Laura Walters by email at laura_a_walters@ibc.doi.gov, or by telephone at 303-969-5696.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the Office of Acquisition and Property Management; (2) will this information be processed and used in a timely manner; (3) is the estimate of burden accurate; (4) how might the Office of Acquisition and Property Management enhance the quality, utility, and clarity of the information to be collected; and (5) how might the Office of Acquisition and Property Management minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Office of Management and Budget (OMB) regulations at 5 CFR 1320, which implement the Paperwork Reduction Act of 1995 (Pub. L. 104-131), require that interested members of the public and affected parties have an opportunity to comment on information collection and recordkeeping activities. This notice identifies an information collection activity that the Office of Acquisition and Property Management has submitted to OMB for renewal.

Title 5 of the U.S. Code section 5911 authorizes Federal agencies to provide housing for Government employees under specified circumstances. In compliance with OMB Circular A-45 (Revised), Rental and Construction of Government Quarters, a review of private rental market housing rates is required at least once every 5 years to ensure that the rental, utility charges, and charges for related services to occupants of Government Furnished Housing (GFH) are comparable to corresponding charges in the private sector. To avoid unnecessary duplication and inconsistent rental rates, the Department of the Interior, Office of the Secretary, Interior Business Center (on behalf of the Office of Acquisition and Property Management), conducts housing surveys in support of employee housing management programs for the Departments of the Interior (DOI), Agriculture, Commerce, Homeland Security, Justice, Transportation, Health and Human Services, and Veterans Affairs. In this survey, two collection forms are used: OS-2000 covering “Houses—Apartments—Mobile Homes,” and OS-2001 covering “Trailer Spaces.”

This collection of information provides data that is essential for DOI and the other Federal agencies to manage GFH in accordance with the requirements of OMB Circular A-45 (Revised). If this information were not collected from the public, DOI and the other Federal agencies providing GFH would be required to use professional real estate appraisals of private market rental costs, again, in accordance with OMB Circular A-45.

Title of Collection: Private Rental Survey.

OMB Control Number: 1084-0033.

Form Number: None.

Type of Review: Extension of a currently approved collection.

Respondents/Affected Public: Individuals/households, businesses and other for-profit institutions.

Total Estimated Number of Annual Respondents: OS-2000: 3,841; OS-2001: 200; Total: 4,041.

Total Estimated Number of Annual Responses: OS-2000: 3,841; OS-2001: 200; Total: 4,041.

Estimated Completion Time per Response: 6 minutes for OS-2000 and 4 minutes for OS-2001.

Total Estimated Number of Annual Burden Hours: 353 hours.

Respondent's Obligation: Voluntary.

Frequency of Collection: Annually.

Total Estimated Annual Nonhour Burden Cost: None.

An agency may not conduct or sponsor and a person is not required to respond to a collection of information unless it displays a currently valid OMB control number.

The authority for this action is the Paperwork Reduction Act of 1995 (44 U.S.C. 3501 et seq).

Megan Olsen,
Director, Office of Acquisition and Property Management.

[FR Doc. 2019-16742 Filed 8-5-19; 8:45 am]

BILLING CODE 4334-63-P